DEPARTMENT OF STATE

[Public Notice 8953]

Determination

Pursuant to the authority vested in the Secretary of State by the Foreign Missions Act, 22 U.S.C. 4301 et seq. (“the Act”), and delegated to me as the Under Secretary of State for Management in Delegation of Authority No. 198, dated September 16, 1992, and consistent with my March 9, 2014 determination that the Taipei Economic and Cultural Representative Office in the United States (TECRO), including its subsidiary offices known as Taipei Economic and Cultural Offices (TECOs) and its personnel, is a “foreign mission” within the meaning of the Act (22 U.S.C. 4302(a)(3)(A)), I hereby confirm and determine that it is reasonably necessary to achieve the purposes set forth in 22 U.S.C. 4304(b), to require that TECRO, its subsidiary offices, persons duly notified to and accepted by AIT as designated employees of TECRO at its primary office or one of its subsidiary offices, including the heads of such offices, and family members of such designated employees who enjoy any immunity from legal process in the United States, shall be subject to the requirements regarding liability insurance set forth in 22 CFR part 151, and shall obtain from the Office of Foreign Missions driver licenses, title and registration documents, license plates and other such requisites for the operation, ownership, or maintenance of a motor vehicle. I further confirm and determine that the Office of Foreign Missions is authorized to issue driver's licenses to immediate family members of TECO designated employees who do not enjoy any immunity from legal process. This determination shall not apply with respect to any person who is a national of, or is permanently resident in, the United States.

Dated: October 29, 2014.
Patrick F. Kennedy,
Under Secretary for Management.

[FR Doc. 2014-27932 Filed 11-24-14; 8:45 am]

BILLING CODE 4710-35-P